OFFICE OF PERSONNEL MANAGEMENT

5 CFR Part 890

Access to Federal Employees Health Benefits (FEHB) for Employees of Certain Indian Tribal Employers

AGENCY: U.S. Office of Personnel Management.

ACTION: Final rule; delay of the effective date.

SUMMARY: This rule delays the effective date of the final rule titled, Access to Federal Employees Health Benefits (FEHB) for Employees of Certain Indian Tribal Employers, published in the Federal Register on December 28, 2016, to a date 60 days from January 20, 2017.

DATES: The effective date for the rule amending 5 CFR part 890 published at 81 FR 95397, December 28, 2016, is delayed until March 21, 2017.

FOR FURTHER INFORMATION CONTACT: Padma Shah, Policy Analysis Group by telephone (202) 606-0004.

SUPPLEMENTARY INFORMATION: On December 28, 2016, OPM published a rule, titled Access to Federal Employees Health Benefits (FEHB) for Employees of Certain Indian Tribal Employers (81 FR 95397), with an effective date of February 27, 2017. On January 20, 2017, the White House distributed a Memorandum for the Heads of Executive Departments and Agencies, titled Regulatory Freeze Pending Review (82 FR 8346, Jan. 24, 2017), from Reince Priebus, Assistant to the President and Chief of Staff. Pursuant to the memorandum, an agency was required to temporarily postpone, to a date 60 days from the date of the memorandum, the effective date of any rule, not excluded from the scope of the memorandum or otherwise excepted, that had been published in the Federal Register but had not yet taken effect. The rule referenced above, Access to Federal Employees Health Benefits (FEHB) for Employees of Certain Indian Tribal Employers, falls within the scope of the January 20, 2017, memorandum. As a result, the purpose of this rule is to perform the required action of postponing the effective date of this rule to March 21, 2017.

U.S. Office of Personnel Management.
Kathleen McGettigan,
Acting Director.

[FR Doc. 2017-03305 Filed 2-17-17; 8:45 am]

BILLING CODE 6325-39-P